DEPARTMENT OF COMMERCE

Census Bureau

Census Coverage Measurement Independent Listing and Relisting Operations

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 11, 2006.

ADDRESSES: Direct all comments to Diana Hynek, Departmental Paperwork Clearance Officer, Department of Commerce, Room 6625, 14th and Constitution Avenue, NW., Washington DC 20230 (or via the Internet at Dhynek@doc.gov).

FOR FURTHER INFORMATION CONTACT: Requests for additional information or copies of the information collection instrument(s) and instructions should be directed to Magdalena Ramos, U.S. Census Bureau, 4600 Silver Hill Rd., Room 4H265, Washington, DC 20233, 301-763-4295 (or via the Internet at Magdalena.Ramos@census.gov).

SUPPLEMENTARY INFORMATION:

I. Abstract

In preparation for the 2010 Census, the U.S. Census Bureau will conduct a Census Coverage Measurement (CCM) test as part of the 2008 Census Dress Rehearsal. The 2008 Census Dress Rehearsal will be conducted in two sites, one urban, and the other one, a mix of urban and suburban. San Joaquin County, California is the urban site. South Central North Carolina has been selected as the urban/suburban mix test site. This area consists of Fayetteville and nine counties surrounding Fayetteville (Chatham, Cumberland, Harnett, Hoke, Lee, Montgomery, Moore, Richmond, and Scotland). As is typical, the CCM operations and activities will be conducted separate from and independent of the census operations. The CCM program for the dress rehearsal is designed to test that all planned coverage measurement operations are working as expected, that they are integrated internally, and that they are coordinated with the appropriate census operations. This is particularly important because the dress rehearsal is the first time in the 2010 census cycle that CCM operations for housing units will be conducted. The CCM operations planned for the dress rehearsal, to the extent possible, will mirror those that will be conducted for the 2010 Census to provide estimates of net coverage error and coverage error components (omissions and erroneous enumerations) for housing units and persons in housing units (see Definition of Terms). The data collection and matching methodologies for previous coverage measurement programs were designed only to measure net coverage error, which reflects the difference between omissions and erroneous inclusions.

The Independent Listing Operation is the first step in the CCM process. It will be conducted to obtain a complete housing unit inventory of all the addresses within the CCM sample block clusters before the 2008 Census Dress Rehearsal enumeration commences. In both dress rehearsal sites, enumerators will canvass every street, road, or other place where people might live in their assigned block clusters and constructs a list of housing units. Enumerators will contact a member (or proxy) of each housing unit to ensure all units at a given address are identified. They also identify the location of each housing unit by assigning map spots on block cluster maps provided with their assignment materials. If an enumerator is uncertain whether a particular living quarters is a housing unit, it will be listed and flagged for followup (this will be a part of the Initial Housing Unit Followup). Following the completion of each block cluster, the listing books are keyed for matching against the census Decennial Master Address File (DMAF) for the same areas.

Completed Independent Listing Books are subject to Quality Control (QC) wherein QC listers return to the field to check 12 units per cluster to ensure that the work performed is of acceptable quality and to verify that the correct blocks were visited. If the cluster fails the QC, then the QC lister reworks the entire cluster.

The Independent Listing results will be computer and clerically matched to the DMAF from the census in the same areas. As the result of the matching an additional relisting operation can occur for block clusters suspected of high levels of geocoding errors in the original independent listing. The methods and procedures for relisting will be the same as those for the listing operation. There will be one Independent Listing Form, DX-1302, that will be used for listing, QC, and relisting.

The addresses that remain unmatched or unresolved after matching will be sent to the field during the next field operation of the CCM, Initial Housing Unit Followup, to collect additional information that might allow a resolution of any differences between the independent listing results and the census DMAF. Cases will also be sent to resolve potential duplicates and unresolved housing unit/group quarter status. The forms and procedures to be used in the Initial Housing Unit Followup phase of the CCM in the 2008 Census Dress Rehearsal and all subsequent CCM phases will be submitted separately.

II. Method of Collection

The independent listing and relisting operations will be conducted using person-to-person interviews.

Definition of Terms

Components of Coverage Error—The two components of census coverage error are census omissions (missed persons or housing units) and erroneous inclusions (persons or housing units enumerated in the census that should not have been). Examples of erroneous inclusions are: persons or housing units enumerated in the census that should not have been enumerated at all, persons or housing units enumerated in an incorrect location, and persons or housing units enumerated more than once (duplicates).

Net Coverage Error—Reflects the difference between census omissions and erroneous inclusions. A positive net error indicates an undercount, while a negative net error indicates an overcount.

For more information about the Census 2000 Coverage Measurement Program, please visit the following page of the Census Bureau's Web site: http://www.census.gov/dmd/www/refroom.html.

III. Data

OMB Number: Not available.

Form Number: DX-1302.

Type of Review: Regular.

Affected Public: Individuals or households.

Estimated Number of Respondents: 40,000 Housing units (HUs) for Independent Listing, 4,000 HUs for Independent Listing QC, 400 HUs for Relisting, and 40 HUs for Relisting QC.

Estimated Times per Response: 2 minutes.

Estimated Total Annual Burden Hours: 1,480.

Estimated Total Annual Cost to the Public: No cost to the respondent except for their time to respond.

Respondent Obligation: Mandatory.

Legal Authority: Title 13, U.S. Code, Sections 141, 193, and 221.

IV. Request for Comments

Comments are invited on: (a) Whether the proposed collection of information is necessary for the proper performance of the functions of the agency, including whether the information shall have practical utility; (b) the accuracy of the agency's estimate of the burden (including hours and cost) of the proposed collection; (c) ways to enhance the quality, utility, and clarity of the information to be collected; and (d) ways to minimize the burden of the collection of information on respondents, including through the use of automated collection techniques or other forms of information technology.

Comments submitted in response to this notice will be summarized and/or included in the request for OMB approval of the information collection; they also will become a matter of public record.

Dated: October 3, 2007.
Madeleine Clayton,
Management Analyst, Office of the Chief Information Officer.

[FR Doc. E6-16618 Filed 10-6-06; 8:45 am]

BILLING CODE 3510-07-P